DEPARTMENT OF THE INTERIOR

Bureau of Land Management

[LLNV912000 L10200000.PH0000 LXSS0006F0000; 14-08807; MO#4500061004]

Correction: Notice of Public Meeting: Resource Advisory Councils, NV

AGENCY: Bureau of Land Management, Interior.

ACTION: Correction.

SUMMARY: On Friday, January 3, 2014, the Bureau of Land Management published the Notice of Public Meeting: Resource Advisory Councils, NV (79 FR 406). The address listed for this meeting was incorrect.

On page 406, in the second column, on lines 40 through 42, the address for the meeting should be corrected to: “High Desert Inn, 3015 Idaho Street, Elko, NV, 89801.”

Matthew Spangler,
BLM Nevada Acting Deputy Chief, Communications.

[FR Doc. 2014-01931 Filed 1-30-14; 8:45 am]

BILLING CODE 4310-HC-P